DEPARTMENT OF COMMERCE

National Oceanic and Atmospheric Administration

[RTID 0648-XC225]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Ecosystem Workgroup (EWG) will hold an online meeting.

DATES: The online meeting will be held Friday, August 26, 2022, from 10 a.m. to 3 p.m.; Monday, August 29, 2022, from 2 p.m. to 4 p.m.; and Tuesday, August 30, 2022, from 2 p.m. to 4 p.m. All times are Pacific Daylight Time. If necessary, meetings may continue past the noticed end time on each day in order to complete the business of the EWG.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The purpose of this meeting is to (1) provide information to Council advisory bodies and the public on ecosystem-related items on the Pacific Council's September 2022 meeting agenda, and (2) discuss and draft EWG reports for the Pacific Council's September 2022 meeting. The informational briefings will be held beginning at 10 a.m. Pacific Time on Friday, August 26, 2022. The topics to be covered are the Draft Western Regional Action Plan to Implement the NOAA Fisheries Climate Science Strategy in 2022-24, which the Pacific Council has been invited to submit comments on, and the draft Fishery Ecosystem Plan Initiatives Appendix to be adopted by the Council at its September meeting. Once these briefings are complete, and for the remainder of the meeting, the EWG will discuss the contents of reports it may draft for the September Pacific Council meeting and other business related to the work of the EWG. In addition to the two ecosystem agenda items described above, the EWG may consider and draft reports on other items of interest on the Pacific Council's September meeting agenda.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 1, 2022.
Rey Israel Marquez,
Acting Deputy Director, Office of Sustainable Fisheries, National Marine Fisheries Service.

[FR Doc. 2022-16734 Filed 8-3-22; 8:45 am]

BILLING CODE 3510-22-P